DEPARTMENT OF THE TREASURY

Submission for OMB Review; Comment Request

June 16, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 24, 2000 to be assured of consideration.

U.S. Customs Service (CUS)

OMB Number: 1515-0130.

Form Number: None.

Type of Review: Extension.

Title: Free Admittance Under Conditions of Emergency.

Description: This collection of information will be used in the event of emergency or catastrophic event to monitor goods temporarily admitted for the purpose of rescue or relief.

Respondents: Business or other for-profit.

Estimated Number of Respondents/Recordkeepers: 1.

Estimated Burden Hours Per Respondent/Recordkeeper: 1 hour.

Frequency of Response: On occasion.

Estimated Total Reporting/Recordkeeping Burden: 1 hour.

OMB Number: 1515-0158.

Form Number: CF 349 and CF 350.

Type of Review: Extension.

Title: Harbor Maintenance Fee.

Description: The Harbor Maintenance Fee established by the Water Resources Development Act of 1986 (Act) (26 U.S.C. 4461, et seq.), is collected by Customs and used to contribute to the operation and maintenance by the Army Corps of Engineers of certain United States channels and harbors.

Respondents: Business or other for-profit.

Estimated Number of Respondents: 625,900.

Estimated Burden Hours Per Respondent: 26 minutes.

Frequency of Response: Annually.

Estimated Total Reporting Burden: 1,250,000 hours.

OMB Number: 1515-0200.

Form Number: None.

Type of Review: Extension.

Title: Importers Declaration/Shippers Declaration.

Description: These declarations are related to the legal requirements and procedures which must be followed in order to obtain duty-free treatment on articles imported into the Customs territory of the United States from the insular possession.

Respondents: Business or other for-profit, Not-for-profit institutions.

Estimated Number of Respondents: 10.

Estimated Burden Hours Per Respondent: 6 minutes.

Frequency of Response: On occasion.

Estimated Total Reporting Burden: 31 hours.

Clearance Officer: J. Edgar Nichols (202) 927-1426, U.S. Customs Service, Printing and Records Management Branch, Ronald Reagan Building, 1300 Pennsylvania Avenue, N.W., Room 3.2.C, Washington, DC 20229.

OMB Reviewer: Alexander T. Hunt (202) 395-7860,Office of Management and Budget, Room 10202, New Executive Office Building,Washington, DC 20503.

Mary A. Able,
Departmental Reports Management Officer.

[FR Doc. 00-15924 Filed 6-22-00; 8:45 am]

BILLING CODE 4820-02-P